DEPARTMENT OF ENERGY

Federal Energy Regulatory Commission

[Docket No. ER06-615-002]

California Independent System Operator Corporation; Notice Inviting Comments

December 21, 2006.

On December 14 and 15, 2006, the Commission held a technical conference to address issues related to the California Independent System Operator Corporation's (CAISO) electric tariff, which reflects the Market Redesign and Technology Upgrade (MRTU). The purpose of the technical conference was to provide parties an opportunity to identify and discuss solutions to resolve alleged MRTU-related seams issues that exist between the CAISO and neighboring systems, in accordance with the directive of the Commission's September 21, 2006 Order conditionally accepting the CAISO's proposed MRTU electric tariff.

All interested persons are invited to file written comments no later than January 16, 2007 in relation to the issues that were the subject of the technical conference. Those filing comments are encouraged to specifically identify any seams concerns they may have, prioritize which of those concerns they believe must be addressed prior to the implementation of MRTU, and propose a workplan for addressing those concerns.

Filing Requirements for Paper and Electronic Filings

Comments, papers, or other documents related to this proceeding may be filed in paper format or electronically. The Commission strongly encourages electronic filings. Those filing electronically do not need to make a paper filing.

Documents filed electronically via the Internet must be prepared in MS Word, Portable Document Format, or ASCII format. To file the document, access the Commission's Web site at http://www.ferc.gov, click on “e-Filing” and then follow the instructions for each screen. First time users will have to establish a user name and password. The Commission will send an automatic acknowledgement to the sender's e-mail address upon receipt of comments. User assistance for electronic filing is available at 202-502-8258 or by e-mail to efiling@ferc.gov. Do not submit comments to this e-mail address.

For paper filings, the original and 14 copies of the comments should be submitted to the Office of the Secretary, Federal Energy Regulatory Commission, 888 First Street, NE., Washington, DC 20426 and should refer to the above-referenced docket number.

All written comments will be placed in the Commission's public files and will be available for inspection at the Commission's Public Reference Room, 888 First Street, NE., Washington, DC 20426, during regular business hours.

Magalie R. Salas,
Secretary.

[FR Doc. E6-22357 Filed 12-28-06; 8:45 am]

BILLING CODE 6717-01-P